DEPARTMENT OF AGRICULTURE

Forest Service

Salmon River Ranger District; Idaho; Allison-Berg Allotment EIS

AGENCY: Forest Service, USDA.

ACTION: Notice of intent to prepare an environmental impact statement.

SUMMARY: The EIS will document changed conditions on the Allison-Berg allotment relative to effects on bighorn sheep and their habitat sufficient to support a determination whether continued grazing by domestic sheep should be allowed or not, and if so, under what conditions.

DATES: Comments concerning the scope of the analysis must be received by June 15, 2009. The draft environmental impact statement is expected in September 2010, and the final environmental impact statement is expected by March 2011.

ADDRESSES: Send written comments to Darcy Pederson, Acting District Ranger, Salmon River Ranger District, 304 Slate Creek Road, White Bird, Idaho 83554. It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Joanne Bonn, via phone at (208) 839-2211 or (208) 983-1950, or in person at 304 Slate Creek Road, between the hours of 8 a.m. and 4 p.m., PDT, Monday through Friday.

Individuals who use telecommunication devices for the deaf (TDD) may call the Federal Information Relay Service (FIRS) at 1-800-877-8339 between 8 a.m. and 8 p.m., Eastern Time, Monday through Friday.

SUPPLEMENTARY INFORMATION:

Purpose and Need for Action

In April 1996 the Nez Perce National Forest made the decision to authorize domestic sheep, horse/pack stock, and cattle grazing on the Allison-Berg allotment. This decision was accompanied by an Environmental Assessment which concluded that the action would have no significant impacts under the National Environmental Policy Act (NEPA) and is consistent with the National Forest Management Act (NFMA). Under this decision, the permittee has been issued ten-year term grazing permits. The latest ten-year term grazing permit, issued in April 2006, allows for both a spring/summer and a fall/winter domestic sheep grazing period. Incidental numbers of horses/pack stock and cattle are permitted to graze spring through fall.

In prior NEPA/NFMA decision documentation for this allotment, no specific concerns related to the bighorn sheep were noted. New information and changed conditions related to bighorn sheep result in a need for the U.S. Forest Service to revisit and update the environmental effects analysis for this allotment.

The Payette National Forest, which manages National Forest System lands south of this allotment, is finalizing an extensive analysis addressing bighorn sheep viability issues on that forest. In September, 2008 the Payette National Forest released the “Draft Supplement to the Final Environmental Impact Statement for the Southwest Idaho Ecogroup Land and Resource Management Plans.” This draft Supplemental Environmental Impact Statement (SEIS) discusses the effects of grazing domestic sheep within or near the range of bighorn sheep for both the Hell's Canyon and Salmon River populations. Although no decision is being made in relation to the Allison-Berg allotment, the Payette National Forest is producing information that is directly pertinent to the update of the Nez Perce National Forest's effects analysis for the Allison-Berg allotment, including bighorn sheep habitat modeling, bighorn sheep population modeling, geographic population range modeling, quantitative risk assessment modeling, disease spread modeling and cumulative effects analysis. Current maps produced by the Payette National Forest and included in their DSEIS show the Allison-Berg allotment is located within the geographic population range of bighorn sheep. The allotment contains a substantial amount of modeled bighorn sheep habitat. The expected date for completion of a final SEIS by the Payette National Forest is December 2009.

Bighorn sheep sightings since 2007 and telemetry and GPS data from radio-collared bighorn sheep in a cooperative study begun in 2008 with the Nez Perce Tribe have confirmed both collared and uncollared bighorn sheep presence on the Allison-Berg allotment during both the spring/summer and the fall/winter grazing periods.

On March 13, 2009 the Nez Perce National Forest prescribed non-use by domestic sheep on the Allison-Berg allotment for resource protection during the time needed to update the NFMA and NEPA analysis for the allotment. This decision to prescribe non-use was based on the following factors: (1) Continued sightings of bighorn sheep (including some that are now radio-collared) within and near the allotment, (2) the lack of identified and agreed to measures that would meet the objective of the State of Idaho Interim Strategy to ensure separation of bighorn sheep and domestic sheep, (3) data assembled to date on movement and distribution of radio-collared Salmon River bighorns has not provided the Forest with information that would enable development of BMPs to ensure separation, and (4) there is a need to obtain and utilize new information from the Payette NF analysis to update our decision documentation for the allotment.

This Notice of Intent to prepare an EIS initiates the process to update our decision documentation for the Allison-Berg allotment. The expected date for publication of our draft EIS allows time for proper review and consideration of the Payette National Forest's bighorn analysis as well as any additional GPS and telemetry data for the collared Salmon River bighorns.

Proposed Action and Possible Alternatives

The Salmon River Ranger District of the United States Forest Service proposes to authorize continued domestic sheep, horse/pack stock, and cattle grazing within the Allison-Berg allotment. Alternatives that may be considered include (1) Authorization of grazing under conditions identified in the existing ten-year term permit; (2) modification of grazing consistent with the Strategy for Managing Separation between Bighorn Sheep and Domestic Sheep and Goats in the Salmon River Area (SRSS); (3) grazing with additional mitigation measures to ensure separation of bighorn sheep and domestic sheep; and (4) no grazing. The project is located 3 miles east of Riggins, Idaho in the Allison, Berg, and Kelly Creek drainages on the north side of the Salmon River.

Responsible Official

Salmon River District Ranger.

Nature of Decision To Be Made

To determine whether to authorize grazing of domestic sheep on the Allison-Berg Allotment, and if so, under what conditions.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: April 20, 2009.
Thomas K. Reilly,
Acting Forest Supervisor.

[FR Doc. E9-9500 Filed 4-30-09; 8:45 am]

BILLING CODE 3410-11-M